ENVIRONMENTAL PROTECTION AGENCY

40 CFR Part 52

[EPA-R01-OAR-2025-1741; FRL-13115-01-R1]

Air Plan Approval; New Hampshire; Single Source VOC RACT Order for Hutchinson Sealing Systems

AGENCY: Environmental Protection Agency (EPA).

ACTION: Proposed rule.

SUMMARY: The Environmental Protection Agency (EPA) is proposing to approve a State Implementation Plan (SIP) revision submitted by the State of New Hampshire. This revision proposes to approve a revised reasonable available control technology (RACT) order for Hutchinson Sealing Systems, Inc., located in Newfields, New Hampshire. This action is being taken under the Clean Air Act.

DATES: Written comments must be received on or before January 12, 2026.

ADDRESSES: Submit your comments, identified by Docket ID No. EPA-R01-OAR-2025-1741 at https://www.regulations.gov, or via email to Meredith Gutierrez at: gutierrez.meredith@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the “For Further Information Contact” section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection.

FOR FURTHER INFORMATION CONTACT: Meredith Gutierrez, Energy and Resilience Branch (ERB), Air and Radiation Division (ARD) (Mail Code 5-MD), U.S. Environmental Protection Agency, Region 1, 5 Post Office Square, Suite 100, Boston, Massachusetts, 02109-3912; (617) 918-1193; gutierrez.meredith@epa.gov.

SUPPLEMENTARY INFORMATION: Throughout this document whenever “we,” “us,” or “our” is used, we mean EPA.

Table of Contents

I. Background and Purpose

II. Proposed Action

III. Incorporation by Reference

IV. Statutory and Executive Order Reviews

I. Background and Purpose

Hutchinson Sealing Systems, Inc. (HSS) produces sealing systems, body seals, and soft rubber glass-run channels used in automobiles and various other applications. HSS owns and operates a facility located at 171 Exeter Road in Newfields, New Hampshire. The sealing strips are produced by several complex processes involving metal roll foaming, rubber and plastic extruding, flocking (or the application of a low-friction coating), and curing, followed by certain secondary operations including but not limited to trimming, notching, saw cutting, stretch bending, molding, and assembly.

The New Hampshire Department of Environmental Services (NH DES) submitted Reasonably Available Control Technology (RACT) Order ARD-11-001 to the EPA as a State Implementation Plan (SIP) revision on March 23, 2012. RACT Order ARD-11-001 required HSS to comply with a volatile organic compound (VOC) content limit of 6.3 lb. VOC/gallon of coating as applied (excluding water and exempt VOC compounds) for motor vehicle weatherstrip adhesive coatings, as specified in Env-A 1220.02, Compliance Standards for Miscellaneous Industrial Adhesives.¹ Order ARD-11-001 contained an allowance for alternate compliance to be met by using add-on controls, bubbling, discrete emissions reductions (DERs), emissions reduction credits (ERCs), or any combination of the previous methods to comply with the limit. In addition, Order ARD-11-001 indicated that the company will install and operate a catalytic oxidizer to control VOC emissions from emissions unit Thermoplastics Extrusion Line #9 (TPV Line #9) at the facility. On August 28, 2012, HSS submitted a permit application to NH DES to allow for the modification of Thermoplastics Extrusion Line #6 (TPV Line #6) and the installation of a catalytic oxidizer control device to control HAP emissions. The adhesives used in TPV Line #6 are subject to the VOC content limits in the RACT order.

¹ These standards are approved in the NH SIP as part of Env-A 1200, Volatile Organic Compounds (VOCs) Reasonably Available Control Technology (RACT) (see 77 FR 66388, November 5, 2012; and 87 FR 26999, May 6, 2022).

On November 5, 2012, the EPA approved New Hampshire's March 23, 2012 submittal for a single source order requiring RACT at HSS into the New Hampshire SIP.² Subsequently, on December 21, 2012, NH DES issued permit TP-0115 to HSS requiring the use of a catalytic oxidizer to control emissions from TPV Line #6. Although RACT Order ARD-11-001 allows the facility to use an add-on control device as a compliance option for the emission limit, the requirement to use a catalytic oxidizer to control emissions from TPV Line #6 was only included in NH DES's December 21, 2012 permit and was not part of EPA's 2012 approval of RACT Order ARD-11-001 into the SIP.

² See 77 FR 66388.

On April 24, 2023, HSS submitted a request to NH DES for a modification to its State Permit to Operate (SP-0141) to, among other items, remove TPV Line #9 and its associated control device from the permit, since that process no longer emits VOCs. On September 29, 2023, HSS submitted a permit application to NH DES for the renewal of SP-0141, which included a request to remove the required use of the catalytic oxidizer associated with TPV Line #6 since the motor vehicle weatherstrip adhesives used in the process meet the VOC content limit without the need for additional control. The revised RACT Order ARD-11-001, issued on January 24, 2025, by NH DES, maintains the existing RACT requirement for HSS to comply with the VOC limit of 6.3 lb. VOC/gallon for motor vehicle weatherstrip coatings. The Order specifies that HSS shall continue to research and test water-based and/or high solids coatings as new products become available. The Order also outlines the processes through which HSS shall be allowed to use DERs, ERCs, and/or bubbling for the purpose of complying with VOC RACT.³ Furthermore, the Order removes the alternate compliance option to use an add-on control device as an alternative to meet the VOC limit. In addition, the Order removes the allowance for HSS to generate discrete emission reduction credits due to the removal of the catalytic oxidizer. On April 17, 2025, NH DES submitted a revision to its SIP consisting of the revised RACT Order ARD-11-001, which is intended to limit emissions of VOCs from the facility.

³ Hutchinson only needs to use credits when non-compliant coatings are employed, which is on an infrequent basis and is being phased out over time, though no anticipated deadline has been given for the removal of these coatings from their processes.

According to Economic Incentive Program Rules (59 FR 16690), the ability of RACT sources to meet RACT requirements through RACT or non-RACT trading shall result in “an exceptional environmental benefit,” which can be demonstrated through “a trading ratio of 1.1 to 1, at a minimum.” This is further clarified in Env-A 3100, Discrete Emissions Reductions Trading Program, which states that users of DERs “shall permanently retire ten percent of all DERs dedicated to that particular use, such that the amount of DERs required to demonstrate compliance shall equal the source's calculated need divided by 0.9.”

HSS was issued an ERC certificate (98VHSS01C) on August 1, 2002, that allows them to generate 22 tons of VOC credits per year from the permanent shutdown of the Body Stock Preparation Process and the Metal Parts Painting Operation (also referred to as the “King-Way Line”). These 22 tons per year are the difference between the baseline before the shutdown of those two processes and the facility-wide emissions after the shutdown. HSS is allowed to use these credits each year, but unused credits do not roll over to succeeding years. Additionally, these credits cannot be sold, transferred, or traded. The use of these credits, ERCs generated by other facilities, or DERs for the purpose of complying with VOC RACT shall comply with recordkeeping and reporting requirements outlined in Env-A 3000, Emissions Reduction Credits Trading Program, and Env-A 3100, Discrete Emissions Reductions Trading Program. HSS is also required to true up the balance of credits required for the previous year (from June 1 to May 31) annually by September 1 and report the balance to NH DES. Additional reporting requirements listed in the Order are detailed in SIP-approved Env-A 900, Owner or Operator Recordkeeping and Reporting Obligations.

Neither Env-A 3000, Emissions Reduction Credits Trading Program, nor Env-A 3100, Discrete Emissions Reductions Trading Program, are in the New Hampshire SIP. Consequently, in order to comply with VOC RACT, approval to generate and use ERCs and DERs must be approved on a facility-by-facility basis. EPA approved into the New Hampshire SIP RACT Order ARD-11-001 in 2012, which contained a VOC content limit of 6.3 lb. VOC/gallon for motor vehicle weatherstrip adhesive coatings at HSS, and an allowance for alternate compliance to be met by using add-on controls, bubbling, DERs, ERCs, or any combination of the previous methods to comply with the limit. HSS is no longer able to meet the facility-wide emission rate of 15% uncontrolled emissions required for DERs generation, as specified in Env-A 3100, due to the removal of the catalytic oxidizer control device on TPV Line #6. Thus, the revised RACT Order ARD-11-001 removes self-generation of DERs and the use of add-on controls as methods of compliance.

The revised RACT Order for HSS maintains the same 6.3 lb. VOC/gallon emissions limit, which is consistent with Env-A 1220, which EPA previously approved as RACT in 2022. EPA also approved New Hampshire's VOC RACT certification for the 2008 and 2015 ozone standards on September 6, 2023 (88 FR 60893). EPA is proposing to approve the revisions to RACT Order ARD-11-001 into the New Hampshire SIP, which do not change the previously approved 6.3 lb. VOC/gallon emissions limit for motor vehicle weatherstrip adhesive coatings at HSS.

IV. Proposed Action

EPA is proposing to approve the revised RACT Order ARD-11-001 into the New Hampshire SIP. The Order was issued by the New Hampshire DES to Hutchinson Sealing Systems of Newfields on January 24, 2025, and submitted to EPA as a SIP revision on April 17, 2025. Clean Air Act (CAA) section 110(l) provides that EPA may approve a SIP revision that removes or modifies control measures in the SIP only if such removal or modification would not interfere with attainment and maintenance of the NAAQS, reasonable further progress, or any other applicable requirement of the CAA. EPA is proposing to determine that the revisions to the RACT order issued to HSS are consistent with CAA section 110(l) because the removal of the add-on control device as an alternate compliance option will not interfere with any applicable requirement concerning attainment and reasonable further process, or any other applicable requirement of the CAA. EPA is soliciting public comments on the issues discussed in this notice or on other relevant matters. These comments will be considered before taking final action. Interested parties may participate in the Federal rulemaking procedure by submitting written comments to this proposed rule by following the instructions listed in the ADDRESSES section of this Federal Register.

V. Incorporation by Reference

In this rule, the EPA is proposing to include in a final EPA rule regulatory text that includes incorporation by reference. In accordance with requirements of 1 CFR 51.5, the EPA is proposing to incorporate by reference RACT Order ARD-11-001 dated January 24, 2025, issued by the New Hampshire DES to Hutchinson Sealing Systems, Inc. of Newfields. The EPA has made, and will continue to make, these documents generally available through https://www.regulations.gov and at the EPA Region 1 Office (please contact the person identified in the FOR FURTHER INFORMATION CONTACT section of this preamble for more information).

VI. Statutory and Executive Order Reviews

Under the Clean Air Act, the Administrator is required to approve a SIP submission that complies with the provisions of the Clean Air Act and applicable Federal regulations. See 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: December 3, 2025.
Mark Sanborn,
Regional Administrator, EPA Region 1.

[FR Doc. 2025-22610 Filed 12-10-25; 8:45 am]

BILLING CODE 6560-50-P